NUCLEAR REGULATORY COMMISSION

[Docket No. 40-8681]

International Uranium (USA) Corporation

AGENCY: Nuclear Regulatory Commission.

ACTION: Notice of Receipt of Request from International Uranium (IUSA) Corporation to Amend Source Material License SUA-1358 to Receive and Process Alternate Feed Materials Notice of Opportunity for Hearing.

SUMMARY: Notice is hereby given that the U.S. Nuclear Regulatory Commission has received, by letter dated July 5, 2000, a request from International Uranium (IUSA) Corporation to amend its NRC Source Material License SUA-1358, to allow its White Mesa Uranium Mill near Blanding, Utah, to receive and process up to 2000 cubic yards of alternate feed material from the Heritage Minerals Site located in Lakehurst, New Jersey. The Heritage site is in decommissioning under NRC Source Materials License No. SMB-1541. The Final Status Survey Plan (“Decommissioning Plan”) includes the removal of a monazite sand pile for shipment off-site. IUSA proposes to process the material for it's uranium content and dispose of the tailings in their tailings cells.

FOR FURTHER INFORMATION CONTACT: Mr. William von Till, Fuel Cycle Licensing Branch, Division of Fuel Cycle Safety and Safeguards, Office of Nuclear Material Safety and Safeguards, U.S. Nuclear Regulatory Commission, Mail Stop T7-J8, Washington, DC 20555. Telephone (301) 415-6251. 2

SUPPLEMENTARY INFORMATION: By its submittal dated July 5, 2000, IUSA requested that the NRC amend Materials License SUA-1358 to allow the receipt and processing of material other than natural uranium ore (i.e., alternate feed material) at its White Mesa uranium mill located near Blanding, Utah. These materials would be used as an “alternate feed material” (i.e., matter that is processed in the mill to remove the uranium but which is different from natural uranium ores, the normal feed material).

IUSA proposes to receive and process, for it's uranium content, monazite sands that are being stored at the Heritage Minerals, Inc. (HMI) site in Lakehurst, New Jersey. This site is regulated by the NRC under Source Material License SMB-1541 and is in decommissioning. This material consists of monazite sands which were processed for heavy minerals (primarily titanium mineral ilmenite) by mechanical methods with no chemical leaching or extraction. IUSA estimates the amount of material for this amendment request to be up to 2000 yds³. HMI has estimated that the material has a uranium content of approximately 0.05 weight percent, or greater. IUSA has determined that the material does not contain listed hazardous waste as defined in the Resource Recovery and Conservation Act, as amended, 42 U.S.C. Section 6901-6991. IUSA proposes to process the material in a similar manner to normal processing of conventional ore, either alone or in combination with other approved alternate feed materials.

IUSA has proposed that It will be a condition of the license that the mill shall not accept any of the Heritage material at the site unless and until the mill's Safety and Environmental Review Panel (SERP) has determined that the mill has sufficient licensed tailings capacity. The tailings capacity must be sufficient to permanently store:

(1) All 11e.(2) byproduct material, as defined under the Atomic Energy act, that would result from the processing of all of the material;

(2) All other ores and alternate feed materials on site; and

(3) All other materials required to be disposed of in the mill's tailings impoundments pursuant to the mill's reclamation plan.

The material will be shipped by rail and truck in intermodal containers. The covered containers will be loaded onto railcars and transported cross-country to a transfer point where the intermodal containers will then be loaded onto trucks for the final leg of the trip to the mill. The transfer point is expected to be either near Grand Junction, Colorado; Cisco, Utah; Green River, Utah; or East Carbon, Utah. The material will be shipped in exclusive containers as “low specific activity” (LSA) Hazard Class 7 Hazardous Material as defined by Department of Transportation regulations.

This application will be reviewed using NRC formal guidance, “Final Position and Guidance on the Use of Uranium Mill Feed Material Other Than Natural Ores' and the guidance contained in the Nuclear Regulatory Commission's Memorandum and Order, International Uranium (IUSA) Corp., CLI-00-01, (February 10, 2000). The NRC has approved similar amendment requests in the past for separate alternate feed material under this license.

The amendment application is available for public inspection and copying at the NRC Public Document Room, in the Gelman Building, 2120 L Street NW., Washington DC 20555.

Notice of Opportunity for Hearing

The NRC hereby provides notice of an opportunity for a hearing on the license amendment under the provisions of 10 CFR Part 2, Subpart L, “Informal Hearing Procedures for Adjudications in Materials and Operator Licensing Proceedings.” Pursuant to § 2.1205(a), any person whose interest may be affected by this proceeding may file a request for a hearing. In accordance with § 2.1205(d), a request for hearing must be filed within 30 days of the publication of this notice in the Federal Register. The request for a hearing must be filed with the Office of the Secretary, either:

(1) By delivery to the Docketing and Service Branch of the Office of the Secretary at One White Flint North, 11555 Rockville Pike, Rockville, MD 20852; or

(2) By mail or telegram addressed to the Secretary, U.S. Nuclear Regulatory Commission, Washington, DC 20555, Attention: Docketing and Service Branch.

In accordance with 10 CFR 2.1205(f), each request for a hearing must also be served, by delivering it personally or by mail, to:

(1) The applicant, International Uranium (USA) Corporation, Independence Plaza, Suite 950, 1050 Seventeenth Street, Denver, Colorado 80265; Attention: Michelle Rehmann; and

(2) The NRC staff, by delivery to the Executive Director for Operations, One White Flint North, 11555 Rockville Pike, Rockville, MD 20852, or by mail addressed to the Executive Director for Operations, U.S. Nuclear Regulatory Commission, Washington, DC 20555.

In addition to meeting other applicable requirements of 10 CFR Part 2 of the NRC's regulations, a request for a hearing filed by a person other than an applicant must describe in detail:

(1) The interest of the requestor in the proceeding;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

The request must also set forth the specific aspect or aspects of the subject matter of the proceeding as to which petitioner wishes a hearing.

In addition, members of the public may provide comments on the subject application within 30 days of the publication of this notice in the Federal Register. The comments may be provided to David L. Meyer, Chief, Rules Review and Directives Branch, Division of Administration Services, Office of Administration, U.S. Nuclear Regulatory Commission, Washington DC 20555.

Dated at Rockville, Maryland, this 11 day of July 2000.
For the U.S. Nuclear Regulatory Commission.
Philip Ting,
Chief, Fuel Cycle Licensing Branch, Division of Fuel Cycle Safety and Safeguards, Office of Nuclear Material Safety and Safeguards.

[FR Doc. 00-18031 Filed 7-14-00; 8:45 am]

BILLING CODE 7590-01-P